DEPARTMENT OF TRANSPORTATION

Federal Aviation Administration

Notice of Intent To Rule on Request To Release Airport Property at the Northeast Philadelphia Airport (PNE), Philadelphia, Pennsylvania; Correction

AGENCY: Federal Aviation Administration, (FAA), DOT.

ACTION: Notice; correction.

SUMMARY: The FAA published a document in the Federal Register of February 27, 2018, concerning requests for comments on its intent to rule on request to release airport property at the Northeast Philadelphia Airport, Philadelphia, PA. The document contained incorrect dates.

FOR FURTHER INFORMATION CONTACT: Ms. Cayla D. Morgan, (425) 227-2653.

Correction

In the Federal Register of February 27, 2018, in FR Doc. 2018-03954, on page 8566, in the second column, correct the Dates caption to read:

DATES: Comments must be received on or before April 16, 2018.

Issued in Camp Hill, PA, on February 27, 2018.
Lori K. Pagnanelli,
Manager, Harrisburg Airports District Office.

[FR Doc. 2018-04581 Filed 3-14-18; 8:45 am]

BILLING CODE 4910-13-P